DEPARTMENT OF TRANSPORTATION

Federal Aviation Administration

14 CFR Part 39

[Docket No. 2000-CE-06-AD; Amendment 39-12011; AD 2000-24-04]

RIN 2120-AA64

Airworthiness Directives; Raytheon Aircraft Company Beech Models A36, B36TC, and 58 Airplanes

AGENCY: Federal Aviation Administration, DOT.

ACTION: Final rule.

SUMMARY: This amendment adopts a new airworthiness directive (AD) that applies to certain Raytheon Aircraft Corporation (Raytheon) Beech Models A36, B36TC, and 58 airplanes. This AD requires you to inspect for misrouted rudder control cables; replace any worn or damaged guard pins; replace any pulley brackets that are damaged or worn; and replace any misrouted rudder control cables. Three reports of misrouted cables prompted this action. The actions specified by this AD are intended to correct the misrouted rudder control cable and consequent guard pin wear or fraying of the cables with loss of rudder control.

DATES: This AD becomes effective on January 5, 2001.

The Director of the Federal Register approved the incorporation by reference of certain publications listed in the regulations as of January 5, 2001.

ADDRESSES: You may get the service information referenced in this AD from Raytheon Aircraft Company, P.O. Box 85, Wichita, Kansas 67201-0085; telephone: (800) 429-5372 or (316) 676-3140; on the Internet at <http://www.raytheon.com/rac/servinfo/27-3265.pdf>. This file is in Adobe Portable Document Format. The Acrobat Reader is available at <http://www.adobe.com/>. You may examine this information at the Federal Aviation Administration (FAA), Central Region, Office of the Regional Counsel, Attention: Rules Docket No. 2000-CE-06-AD, 901 Locust, Room 506, Kansas City, Missouri 64106; or at the Office of the Federal Register, 800 North Capitol Street, NW, suite 700, Washington, DC.

FOR FURTHER INFORMATION CONTACT: Paul C. DeVore, Aerospace Engineer, FAA, Wichita Aircraft Certification Office, 1801 Airport Road, Mid-Continent Airport, Wichita, Kansas 67209; telephone: (316) 946-4142; facsimile: (316) 946-4407.

SUPPLEMENTARY INFORMATION:

Discussion

What events have caused this AD? The FAA has received three reports of instances of misrouted cables in Raytheon Beech Models A36, B36TC, and 58 airplanes. In one instance, a report noted complete separation of the rudder cable. In another instance, a report noted fraying of the rudder cable.

What are the consequences if the condition is not corrected? This condition could result in guard pin wear and separation or fraying of the cables with loss of rudder control.

Has FAA taken any action to this point? We issued a proposal to amend part 39 of the Federal Aviation Regulations (14 CFR part 39) to include an AD that would apply to certain Raytheon Beech Models A36, B36TC, and 58 airplanes. This proposal published in the Federal Register as a notice of proposed rulemaking (NPRM) on August 24, 2000 (65 FR 51562). The NPRM proposed to require you to inspect for misrouted rudder control cables; replace any worn or damaged guard pins; replace any pulley brackets that are damaged or worn; and replace any misrouted rudder control cables.

Was the public invited to comment? Interested persons were afforded an opportunity to participate in the making of this amendment. No comments were received on the proposed rule or the FAA's determination of the cost to the public.

The FAA's Determination

What is FAA's final determination on this issue? After careful review of all available information related to the subject presented above, we have determined that air safety and the public interest require the adoption of the rule as proposed except for minor editorial corrections. We determined that these minor corrections:

—will not change the meaning of the AD; and

—will not add any additional burden upon the public than was already proposed.

Cost Impact

How many airplanes does this AD impact? We estimate that this AD affects 842 airplanes in the U.S. registry.

What is the cost impact of this AD on owners/operators of the affected airplanes? We estimate the following costs to accomplish the inspection:

Labor cost | Parts cost | Total cost per airplane | Total cost on U.S. airplane operators
1 workhour×$60 per hour=$60 | No parts required for the inspection | $60 per airplane | $60×842=$50,520.

We estimate the following costs to accomplish the rudder control replacement:

Labor cost | Parts cost | Total cost per airplane | Total cost on U.S. airplane operators
4 workhours × $60 per hour = $240 | Warranty Credit | $240 per airplane | $240 × 842 = $202,080.
The manufacturer will also allow warranty credit for labor to the extent noted in the service bulletin.

We estimate the following costs to accomplish the rudder control replacement:

Labor cost | Parts cost | Total cost per airplane | Total cost on U.S. airplane operators
2 workhours × $60 per hour = $120 | No cost. Raytheon will provide | $120 per airplane | $120 × 842 = $101,040.
The manufacturer will also allow warranty credit for labor to the extent noted in the service bulletin.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-24-04 Raytheon Aircraft Company: Amendment 39-12011; Docket No. 2000-CE-06-AD.

(a) What airplanes are affected by this AD? This AD affects the following Beech airplane models and serial numbers that are certificated in any category;

Model | Serial numbers
A36 | E-2519 through E-3140
B36TC | EA-501 through EA-608
58 | TH-1576 through TH-1838

(b) Who must comply with this AD? Anyone who wishes to operate any of the above airplanes must comply with this AD.

(c) What problem does this AD address? The actions specified by this AD are intended to correct the misrouted rudder control cable and consequent guard pin wear or fraying of the cables with loss of rudder control.

(d) What must I do to address this problem? To address this problem, you must accomplish the following actions:

Actions | Compliance times | Procedures
(1) Inspect rudder control cables that are routed around the pulley and through the brackets. (i) Replace any worn or damaged guard pins. (ii) Inspect pulley brackets for wear and damage, and replace as necessary. (iii) If rudder cables are routed properly, check the airplane log book to determine if a misrouted control cable was detected during maintenance and the misrouting was corrected. | Inspect within the next 50 hours time-in-service after January 5, 2001 (the effective date of this AD), and accomplish all follow-on actions, such as replacements before further flight after the inspection. | Accomplish the inspection in accordance with the ACCOMPLISHMENT INSTRUCTIONS paragraph of Raytheon Mandatory Service Bulletin SB 27-3265, Issued: January 2000, and the applicable airplane Maintenance Manual or Shop Manual.
(2) If a misrouting has been recorded or found during this inspection, install replacement rudder control cables in accordance with the following: (i) Apply corrosion preventive compounds, as necessary, to provide corrosion protection. (ii) Install rudder control cables (iii) Adjust rudder control cables to correct tension and adjust control surface travel. (iv) Perform an operational checkout of the flight control system to ensure proper operation of installed rudder control cables, pulley brackets, guard pins and attaching hardware. | Before further flight after the inspection. | Accomplish this action in accordance with the ACCOMPLISHMENT INSTRUCTIONS paragraph of Raytheon Mandatory Service Bulletin SB 27-3265, Issued: January 2000, and the applicable airplane Maintenance Manual or Shop Manual.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Paul C. DeVore, Aerospace Engineer, Wichita Aircraft Certification Office, FAA, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin SB 27-3265, Issued: January 2000. The director of the Federal Register approved this incor- poration by reference under 5 U.S.C. 552(a) and 1 CFR part 51. You can get copies from Raytheon Aircraft Company, P.O. Box 85, Wichita, KS 67201-0085; or on the Internet at http://www.raytheon.com/rac/servinfo/27-3265.pdf. This file is in Adobe Portable Document Format. The Acrobat Reader is available at http://www.adobe.com/>. You can look at copies at the FAA, Central Region, Office of the Regional Counsel, 901 Locust, Room 506, Kansas City, Missouri, or at the Office of the Federal Register, 800 North Capitol Street, NW, suite 700, Washington, DC.

(i) When does this amendment become effective? This amendment becomes effective on January 5, 2001.

Issued in Kansas City, Missouri, on November 20, 2000.
Marvin R. Nuss,
Acting Manager, Small Airplane Directorate, Aircraft Certification Service.

[FR Doc. 00-30318 Filed 12-1-00; 8:45 am]

BILLING CODE 4910-13-P